ENVIRONMENTAL PROTECTION AGENCY

[ER-FRL-9059-7]

Environmental Impact Statements; Notice of Availability

Responsible Agency: Office of Federal Activities, General Information 202-564-5632 or https://www.epa.gov/nepa.

Weekly receipt of Environmental Impact Statements (EIS)

Filed November 29, 2021 10 a.m. EST Through December 6, 2021 10 a.m. EST

Pursuant to 40 CFR 1506.9

Notice: Section 309(a) of the Clean Air Act requires that EPA make public its comments on EISs issued by other Federal agencies. EPA's comment letters on EISs are available at: https://cdxnodengn.epa.gov/cdx-enepa-public/action/eis/search.

EIS No. 20210182, Draft, USFS, CA, Social and Ecological Resilience Across the Landscape (SERAL), Comment Period Ends: 01/24/2022, Contact: Kathryn Wilkinson 209-288-6321.

EIS No. 20210183, Draft, FERC, WI, Wisconsin Access Project, Comment Period Ends: 01/24/2022, Contact: Office of External Affairs 866-208-3372.

Dated: December 6, 2021.
Cindy S. Barger,
Director, NEPA Compliance Division, Office of Federal Activities.

[FR Doc. 2021-26743 Filed 12-9-21; 8:45 am]

BILLING CODE 6560-50-P